POSTAL SERVICE

39 CFR Part 960

Implementation of the Contract With America Advancement Act

AGENCY: Postal Service.

ACTION: Final rule.

SUMMARY: The Postal Service is amending the rules implementing the Equal Access to Justice Act in Postal Service proceedings to reflect the statutory increase in the amount of the hourly fees payable.

EFFECTIVE DATE: November 2, 2001.

FOR FURTHER INFORMATION CONTACT: Diane M. Mego, (703) 812-1905.

SUPPLEMENTARY INFORMATION: The Contract with America Advancement Act of 1996 (Pub. L. 104-121, 110 Stat. 857 (1996)) increased the maximum amount of attorney fees under the Equal Access to Justice Act from $75 per hour to $125 per hour. This rulemaking amends 39 CFR part 960 to conform with the statutory change. In addition, language specifying the allowable fees for expert witnesses is being deleted.

These are statutorily mandated changes in agency rules of procedure before the Judicial Officer and, therefore, it is appropriate for their adoption by the Postal Service to become effective immediately.

List of Subjects in 39 CFR Part 960

Administrative practice and procedure, Equal access to justice, Postal Service.

Accordingly, the Postal Service adopts amendments to 39 CFR part 960 as specifically set forth below:

PART 960—[AMENDED]

1. The authority citation for part 960 continues to read as follows:

Authority: 5 U.S.C. 504 (c) (1); 39 U.S.C. 204, 401 (2).

§ 960.6 [Amended]

2. Section 960.6(b) is amended by removing “$75.00 per hour” and adding $125.00 per hour, or such rate as prescribed by 5 U.S.C. 504”.

3. Section 960.6(b) is further amended by removing “, which is generally $50.00 per hour”.

§ 960.7 [Amended]

4. Section 960.7(a) is amended by removing “$75 per hour” and adding “$125.00 per hour, or such rate as prescribed by 5 U.S.C. 504,”.

Stanley F. Mires,
Chief Counsel, Legislative.

[FR Doc. 01-27626 Filed 11-1-01; 8:45 am]

BILLING CODE 7710-12-P